ENVIRONMENTAL PROTECTION AGENCY

40 CFR Part 52

[EPA-R03-OAR-2011-0556; FRL-9473-4]

Approval and Promulgation of Air Quality Implementation Plans; West Virginia; Ohio; Determination of Clean Data for the 2006 24-Hour Fine Particulate Standard for the Steubenville-Weirton Area

AGENCY: Environmental Protection Agency (EPA).

ACTION: Proposed rule.

SUMMARY: EPA is proposing to determine that the two-state Steubenville-Weirton, nonattainment area for the 2006 24-hour fine particulate matter (PM2.5) National Ambient Air Quality Standard (NAAQS) has clean data for the 2006 24-hour PM2.5 NAAQS. This proposed determination is based upon quality assured, quality controlled, and certified ambient air monitoring data showing that this area has monitored attainment of the 2006 PM2.5 NAAQS based on the 2008-2010 data available in EPA's Air Quality System (AQS) database. If this proposed determination is made final, the requirements for the Steubenville-Weirton area to submit an attainment demonstration, associated reasonably available control measures (RACM), a reasonable further progress plan (RFP), contingency measures, and other planning State Implementation Plans (SIPs) related to attainment of the standard shall be suspended for so long as the area continues to meet the 2006 24-hour PM2.5 NAAQS. This action is being taken under the Clean Air Act (CAA).

DATES: Written comments must be received on or before November 3, 2011.

ADDRESSES: Submit your comments regarding the two-state Steubenville-Weirton area, identified by Docket ID Number EPA-R03-OAR-2011-0556 by one of the following methods:

A. http://www.regulations.gov. Follow the on-line instructions for submitting comments.

B. E-mail: fernandez.cristina@epa.gov.

C. Mail: EPA-R03-OAR-2011-0556, Cristina Fernandez, Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2011-0556. EPA's policy is that all comments received will be included in the public docket without change, and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy during normal business hours at the Air Protection Division, U.S. Environmental Protection Agency, Region III, 1650 Arch Street, Philadelphia, Pennsylvania 19103.

FOR FURTHER INFORMATION CONTACT: In Region III, Asrah Khadr, Office of Air Program Planning, Environmental Protection Agency, Region III, 1650 Arch Street, Philadelphia, PA 19103-2023. The telephone number is (215) 814-2071. Ms. Khadr can also be reached via electronic mail at khadr.asrah@epa.gov. In Region V, Carolyn Persoon, Air Planning and Maintenance Section, Air Programs Branch (AR-18J), Environmental Protection Agency, Region V, 77 West Jackson Boulevard, Chicago, Illinois 60604-3507. Ms. Persoon's telephone number is (312) 353-8290. Ms. Persoon can also be reached via electronic mail at persoon.carolyn@epa.gov.

SUPPLEMENTARY INFORMATION: Throughout this document whenever “we,” “us,” or “our” is used, we mean EPA.

The following outline is provided to aid in locating information in this preamble.

I. What action is EPA taking?

II. What is the effect of this action?

III. What is the background for this action?

IV. What is EPA's analysis of the relevant air quality data?

V. What's EPA's proposed action?

VI. What are the statutory and Executive Order reviews?

I. What action is EPA taking?

EPA is proposing to determine that the Steubenville-Weirton PM2.5 nonattainment area has clean data for the 2006 24-hour PM2.5 NAAQS. This determination is based upon quality assured, quality controlled, and certified ambient air monitoring data showing that this area has monitored attainment of the 2006 PM2.5 NAAQS based on the 2008-2010 data in EPA's AQS database.

II. What is the effect of this action?

If this determination is made final, under the provisions of EPA's PM2.5 implementation rule (see 40 CFR section 51.1004(c)), the requirements for the Steubenville-Weirton nonattainment area to submit an attainment demonstration, associated RACM, a RFP plan, contingency measures, and any other planning SIPs related to attainment of the 2006 PM2.5 NAAQS would be suspended for so long as the area continues to meet the 2006 24-hour PM2.5 NAAQS. Furthermore, as described below, a final clean data determination would not be equivalent to the redesignation of this area to attainment of the 2006 24-hour PM2.5 NAAQS.

If EPA subsequently determines that this area is in violation of the 2006 24-hour PM2.5 NAAQS, the basis for the suspension of the specific requirements, set forth at 40 CFR section 51.1004(c), would no longer exist and this area would thereafter have to address the pertinent requirements.

This clean data determination that EPA proposes with this Federal Register notice, that the air quality data shows attainment of the 2006 24-hour PM2.5 NAAQS, is not equivalent to the redesignation of this area to attainment. This proposed action, if finalized, will not constitute a redesignation to attainment under section 107(d)(3) of the CAA, because we would not yet have an approved maintenance plan for this area as required under section 175A of the CAA, nor a determination that this area has met the other requirements for redesignation. The designation status of this area would remain nonattainment for the 2006 PM2.5 NAAQS until such time as EPA determines that this area meets the CAA requirements for redesignation to attainment.

III. What is the background for this action?

The 2006 PM2.5 NAAQS set forth at 40 CFR 50.13 became effective on December 18, 2006 (71 FR 61144) and promulgated a 24-hour standard of 35 micrograms per cubic meter (µg/m³) based on a 3-year average of the 98th percentile of 24-hour concentration. On December 14, 2009 (74 FR 58688), EPA made designation determinations, as required by CAA section 107(d)(1), for the 2006 24-hour PM2.5 NAAQS. The Steubenville-Weirton area is designated as nonattainment for the 2006 24-hour PM2.5 NAAQS.

IV. What is EPA's analysis of the relevant air quality data?

EPA has reviewed the ambient air monitoring data, consistent with the requirements contained in 40 CFR part 50 and recorded in EPA's AQS database for the Steubenville-Weirton PM2.5 nonattainment area from 2008 through the present time. On the basis of that review, EPA has concluded that this area meets the 2006 24-hour PM2.5 NAAQS based on the 2008-2010 data available in EPA's AQS database.

Under EPA regulations in 40 CFR part 50, section 50.13 and in accordance with Appendix N, the 24-hour primary and secondary PM2.5 standards are met when the 98th percentile 24-hour concentration is less than or equal to 35 µg/m³. Table 1 shows the design values for the 2006 24-hour PM2.5 NAAQS for the years 2008-2010. EPA's review of the data indicates that the Steubenville-Weirton PM2.5 nonattainment area meets the 2006 PM2.5 NAAQS.

Table 1—2008-2010 Daily Average Concentrations in the Steubenville-Weirton Area ¹
State | County | Site No. | Design value (μg/m³)
Ohio | Jefferson | 390810017 | 30.0
Ohio | Jefferson | 390811001 | 28.0
West Virginia | Brooke | 540090005 | 31.0
West Virginia | Brooke | 540090011 | 31.0
West Virginia | Hancock | 540291004 | 31.0
¹ The publicly available PM2.5 AQS data and information is available as part of EPA's AirTrends Site at: http://www.epa.gov/airtrends/values.html.

V. What's EPA's proposed action?

EPA is proposing to determine that the Steubenville-Weirton nonattainment area has clean data for the 2006 24-hour PM2.5 NAAQS. As provided in 40 CFR section 51.1004(c), if EPA finalizes this determination, it will suspend the requirements for this area to submit an attainment demonstration, associated RACM, a RFP, contingency measures, and any other planning SIPs related to the attainment of the 2006 PM2.5 NAAQS, so long as this area continues to meet the standard. EPA is soliciting public comments on the issues discussed in this document. These comments will be considered before taking final action.

VI. What are the statutory and Executive Order reviews?

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely proposes to approve state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rulemaking that the Steubenville-Weirton PM2.5 nonattainment area has clean data for the 2006 24-hour PM2.5 standard does not have tribal implications as specified by Executive Order 13175 (65 FR 67249, November 9, 2000), because the SIP is not approved to apply in Indian Country located in the state, and EPA notes that it will not impose substantial direct costs on tribal governments or preempt tribal law.

List of Subjects in 40 CFR Part 52

Environmental protection, Air pollution control, Particulate matter, Reporting and recordkeeping requirements.

Authority: 42 U.S.C. 7401 et seq.

Dated: August 8, 2011.
C. Early,
Acting Regional Administrator, Region III.
Dated: September 6, 2011.
Susan Hedman,
Regional Administrator, Region V.

[FR Doc. 2011-25111 Filed 10-3-11; 8:45 am]

BILLING CODE 6560-50-P